DEPARTMENT OF COMMERCE

National Oceanic and Atmospheric Administration

[I.D. 062800B]

New England Fishery Management Council; Public Meetings

AGENCY: National Marine Fisheries Service (NMFS), National Oceanic and Atmospheric Administration (NOAA), Commerce.

ACTION: Notice of public meetings.

SUMMARY: The New England Fishery Management Council (Council) is scheduling a meeting of its Magnuson-Stevens Fishery Conservation and Management Act (M-SFCMA) Committee in July, 2000 to consider actions affecting New England fisheries in the exclusive economic zone (EEZ). Recommendations from the committee will be brought to the full Council for formal consideration and action, if appropriate.

DATES: The meeting will be held on Tuesday, July 18, 2000, at 9:00 a.m.

ADDRESSES: The meeting will be held at offices of the Rhode Island Department of Environmental Management, 235 Promenade Street, Providence, RI; telephone: (401)222-6605.

FOR FURTHER INFORMATION CONTACT: Paul J. Howard, Executive Director, New England Fishery Management Council; (978) 465-0492. Requests for special accommodations should be addressed to the New England Fishery Management Council, 50 Water Street, Newburyport, MA 01950; telephone: (978) 465-0492.

SUPPLEMENTARY INFORMATION: The committee will meet to develop comments on the 2000 reauthorization of the M-SFCMA.

Although non-emergency issues not contained in this agenda may come before this Council for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: June 29, 2000.
Bruce C. Morehead,
Acting Director, Office of Sustainable Fisheries, National Marine Fisheries Service.

[FR Doc. 00-16936 Filed 7-3-00; 8:45 am]

BILLING CODE 3510-22-F